DEPARTMENT OF ENERGY

Federal Energy Regulatory Commission

[Docket No. RM24-9-000]

Alliance for Tribal Clean Energy; Notice of Tribal Consultation

On August 9, 2024, the Alliance for Tribal Clean Energy (ATCE), pursuant to Rule 207(a)(4) of the Federal Energy Regulatory Commission's (Commission) Rules of Practice and Procedure, 18 CFR 385.207(a)(4) (2024), filed a petition requesting that the Commission conduct an expedited rulemaking to revise the pro forma Large Generator Interconnection Procedures (LGIP) to defer the time at which certain “Tribal Energy Development Organizations” must post commercial readiness deposits and partially exempt them from potential withdrawal penalties.¹

¹ See Notice of Petition for Rulemaking and Intent to Hold Tribal Consultation Meetings, Docket No. RM24-9-000 (September 3, 2024).

Because the petition seeks to have the Commission institute a rulemaking proceeding that involves issues that would uniquely affect Tribes,² the Commission will conduct Tribal consultation with federally recognized Tribes on whether to conduct a rulemaking to revise the pro forma LGIP as requested by ATCE. Specifically, the Commission will consult with Tribes on:

² “Tribes” and “Tribal” are used herein to refer to federally recognized Indian Tribes as referenced in the Federally Recognized Indian Tribe List Act of 1994, 25 U.S.C. 5130.

1. Whether to propose to adopt a definition of “Tribal Energy Development Organizations,” and perspectives on the definition.

2. Whether to propose to permit those Tribal Energy Development Organizations to defer paying commercial readiness deposits for generator interconnection requests until the execution of a Large Generator Interconnection Agreement.

3. Whether to propose to exempt those Tribal Energy Development Organizations from paying the generator interconnection request withdrawal penalties required by section 3.7.1.1(a) of the pro forma LGIP.

4. Whether to propose to permit those Tribal Energy Development Organizations withdrawing generator interconnection requests during the timeframes in sections 3.7.1.1(b) and 3.7.1.1(c) of the pro forma LGIP to pay a penalty equal to the actual study costs incurred by the withdrawing customer at the time of withdrawal, capped at $150,000.

5. What challenges Tribes face when pursuing generator interconnection, including the impacts of the commercial readiness deposits and withdrawal penalties set forth in the pro forma LGIP.

6. Whether energy projects developed by Tribes are more likely to proceed to commercial operation than projects proposed by other developers? And if so, please share why.

The Tribal consultation will be conducted in accord with the Commission's Policy Statement on Consultation with Indian Tribes in Commission Proceedings, Order No. 635, 104 FERC ¶ 61,108 (2003), 18 CFR 2.1c. The Policy Statement states that the Commission will engage Tribes in high-level meetings to discuss general matters of importance, such as those that uniquely affect Tribes.

Tribal consultation will be conducted in two virtual, web-based meetings on October 28, 2024, and November 4, 2024, from 2 p.m.-4 p.m. ET. A call-in option will also be provided. Senior staff from the Office of Energy Policy and Innovation, the Office of Energy Market Regulation, and the Office of the General Counsel will participate in the consultations.

Tribal government leaders or designated representatives interested in participating in consultation on this matter, or who have questions at this time, may contact the Commission by emailing tribalrelations@ferc.gov.

Interested persons may access the contents of this docket via the internet through the Commission's online “eLibrary” at http://www.elibrary.ferc.gov/ by entering “RM24-9” in the docket number field. For assistance, contact FERC at FERCOnlineSupport@ferc.gov or call toll-free, (886) 208-3676 or TYY, (202) 502-8659.

Dated: September 19, 2024.
Debbie-Anne A. Reese,
Acting Secretary.

[FR Doc. 2024-21997 Filed 9-25-24; 8:45 am]

BILLING CODE 6717-01-P